NUCLEAR REGULATORY COMMISSION

Docket No. 50-335-LA; ASLBP No. 11-911-01-LA-BD01]

Florida Power & Light Company; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding:

Florida Power & Light Company (St. Lucie Plant, Unit 1)

This proceeding involves a license amendment request by Florida Power & Light Company to increase, from 2,700 megawatts thermal to 3,020 megawatts thermal, the licensed core power level for St. Lucie Plant, Unit 1, which is located in St. Lucie County, Florida. In response to a “Notice of Consideration of Issuance of Amendment to Facility Operating License, and Opportunity for a Hearing” published in the Federal Register on June 9, 2011 (76 FR 33,789), a hearing request was submitted by Thomas Saporito on behalf of Saprodani Associates.

The Board is comprised of the following administrative judges:

William J. Froehlich, Chair, Atomic Safety and Licensing Board Panel, U.S. Nuclear Regulatory Commission, Washington, DC 20555-0001.

Dr. Anthony J. Baratta, Atomic Safety and Licensing Board Panel, U.S. Nuclear Regulatory Commission, Washington, DC 20555-0001.

Dr. Kenneth L. Mossman, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 11th day of August 2011.
E. Roy Hawkens,
Chief Administrative Judge, Atomic Safety and Licensing Board Panel.

[FR Doc. 2011-20952 Filed 8-16-11; 8:45 am]

BILLING CODE 7590-01-P